DEPARTMENT OF THE INTERIOR

National Park Service

[NPS-NERO-GATE-33352; PPNEGATEB0, PPMVSCS1Z.Y00000]

Gateway National Recreation Area Fort Hancock 21st Century Advisory Committee Notice of Public Meeting

AGENCY: National Park Service, Interior.

ACTION: Meeting notice.

SUMMARY: In accordance with the Federal Advisory Committee Act of 1972, the National Park Service (NPS) is hereby giving notice that the Gateway National Recreation Area Fort Hancock 21st Century Advisory Committee (Committee) will meet as indicated below.

DATES: The virtual meeting will take place on Wednesday, April 13, 2022. The meeting will begin at 9:00 a.m. until 1:00 p.m., with a public comment period at 11:00 a.m. to 11:30 a.m. (EASTERN), with advance registration required. Please contact Daphne Yun (see FOR FURTHER INFORMATION CONTACT) no later than April 11, 2022, to receive instructions for accessing the meeting. The alternate meeting date is Wednesday, April 27, 2022.

FOR FURTHER INFORMATION CONTACT: This will be a virtual meeting. Anyone interested in attending should contact Daphne Yun, Acting Public Affairs Officer, Gateway National Recreation Area, 210 New York Avenue, Staten Island, New York 10305, by telephone (718) 815-3651, or by email daphne_yun@nps.gov.

SUPPLEMENTAL INFORMATION: The Committee was established on April 18, 2012, by authority of the Secretary of the Interior (Secretary) under 54 U.S.C. 100906 and is regulated by the Federal Advisory Committee Act. The Committee provides advice to the Secretary, through the Director of the NPS, on matters relating to the Fort Hancock Historic District of Gateway National Recreation Area. All meetings are open to the public.

Purpose of the Meeting: The Gateway National Recreation Area will discuss leasing updates, and a presentation from the Chief of Resource Management. The final agenda will be posted on the Committee's website at https://www.forthancock21.org. The website includes meeting minutes from all prior meetings.

Interested persons may present, either orally or through written comments, information for the Committee to consider during the public meeting. Written comments will be accepted prior to, during, or after the meeting. Members of the public may submit written comments by mailing them to Daphne Yun (see FOR FURTHER INFORMATION CONTACT).

Due to time constraints during the meeting, the Committee is not able to read written public comments submitted into the record. Individuals or groups requesting to make oral comments at the public Committee meeting will be limited to no more than three minutes per speaker. All comments will be made part of the public record and will be electronically distributed to all Committee members. Detailed minutes of the meeting will be available for public inspection within 90 days of the meeting.

Public Disclosure of Comments: Before including your address, phone number, email address, or other personal identifying information in your written comments, you should be aware that your entire comment including your personal identifying information will be publicly available. While you can ask us in your comment to withhold your personal identifying information from public review, we cannot guarantee that we will be able to do so.

(Authority: 5 U.S.C. Appendix 2)

Alma Ripps,
Chief, Office of Policy.

[FR Doc. 2022-06050 Filed 3-21-22; 8:45 am]

BILLING CODE 4312-52-P